NUCLEAR REGULATORY COMMISSION

Notice of Opportunity To Comment on Model Safety Evaluation and Model License Amendment Request on Technical Specification Improvement Regarding Relocation of Departure From Nucleate Boiling Parameters to the Core Operating Limits Report for Combustion Engineering Pressurized Water Reactors Using the Consolidated Line Item Improvement Process

AGENCY: Nuclear Regulatory Commission.

ACTION: Request for comment.

SUMMARY: Notice is hereby given that the staff of the U. S. Nuclear Regulatory Commission (NRC) has prepared a model license amendment request (LAR), model safety evaluation (SE), and model proposed no significant hazards consideration (NSHC) determination related to changes to Standard Technical Specifications (STSs) for Combustion Engineering Pressurized Water Reactors (PWRs), NUREG-1432, Revision 3.1. This change would allow the numerical limits located in technical specification (TS) 3.4.1, “RCS Pressure, Temperature, and Flow [Departure from Nucleate Boiling (DNB)] Limits” to be replaced with references to the Core Operating Limits Report (COLR). Associated changes are also included for the TS 3.4.1 Bases, and TS 5.6.3 “Core Operating Limits Report (COLR).” The Technical Specifications Task Force (TSTF) proposed these changes to the TS in TSTF-487 Revision 0, “Relocate DNB Parameters to the COLR.”

The purpose of the model SE, LAR, and NSHC is to permit the NRC to efficiently process amendments to incorporate these changes into plant-specific TSs for Combustion Engineering PWRs. Licensees of nuclear power reactors to which the models apply can request amendments conforming to the models. In such a request, a licensee should confirm the applicability of the model LAR, model SE and NSHC determination to its plant. The NRC staff is requesting comments on the model LAR, model SE and NSHC determination before announcing their availability for referencing in license amendment applications.

DATES: The comment period expires 30 days from the date of this publication. Comments received after this date will be considered if it is practical to do so, but the Commission is able to ensure consideration only for comments received on or before this date.

ADDRESSES: Comments may be submitted either electronically or via U.S. mail.

Submit written comments to: Chief, Rulemaking, Directives, and Editing Branch, Division of Administrative Services, Office of Administration, Mail Stop: T-6 D59, U.S. Nuclear Regulatory Commission, Washington, DC 20555-0001. Hand deliver comments to: 11545 Rockville Pike, Rockville, Maryland 20852, between 7:45 a.m. and 4:15 p.m. on Federal workdays. Submit comments by electronic mail to: CLIIP@nrc.gov.

Copies of comments received may be examined at the NRC's Public Document Room, One White Flint North, Public File Area O1-F21, 11555 Rockville Pike (first floor), Rockville, Maryland.

FOR FURTHER INFORMATION CONTACT: Ross Telson, Mail Stop: O-12H2, Division of Inspection and Regional Support, Office of Nuclear Reactor Regulation, U.S. Nuclear Regulatory Commission, Washington, DC 20555-0001, telephone (301) 415-2256.

SUPPLEMENTARY INFORMATION:

Background

Regulatory Issue Summary 2000-06, “Consolidated Line Item Improvement Process [CLIIP] for STSs Changes for Power Reactors,” was issued on March 20, 2000. The CLIIP is intended to improve the efficiency and transparency of NRC licensing processes. This is accomplished by processing proposed changes to the TS in a manner that supports subsequent license amendment applications. The CLIIP includes an opportunity for the public to comment on proposed changes to the TS following a preliminary assessment by the NRC staff and finding that the change will likely be offered for adoption by licensees. At the conclusion of the notice for comment period the NRC staff will evaluate any comments received for the proposed TS change and either reconsider the change or proceed with announcing the availability of the change for proposed adoption by licensees. Those licensees opting to apply for the subject change to TSs are responsible for reviewing the NRC staff's evaluation, referencing the applicable technical justifications, and providing any necessary plant-specific information. Following the public comment period, the model LAR and model SE will be finalized, and posted on the NRC web page. Each amendment application made in response to the notice of availability will be processed and noticed in accordance with applicable NRC rules and procedures.

This notice involves the replacement of the departure from nucleate boiling (DNB) parameter limits in TS 3.4.1 with references to the defined formal COLR for the values of these limits. With this alternative, reload license amendments for the sole purpose of updating the cycle specific DNB parameter limits will be unnecessary. This change would allow licensees of Combustion Engineering PWRs to recalculate DNB parameter limits in the COLR using NRC-approved methodologies. By letter dated June 20, 2005, the TSTF proposed these changes for incorporation into the STSs as TSTF-487, Revision 0. These changes are based on the NRC Generic Letter 88-16 “Removal of Cycle-Specific Parameter Limits from Technical Specifications.” This document is accessible electronically from the Agency-wide Documents Access and Management System's (ADAMS) Public Electronic Reading Room on the Internet (ADAMS Accession No. ML041830597) at the NRC Web site http://www.nrc.gov/reading-rm/adams.html. Persons who do not have access to ADAMS or who encounter problems in accessing the documents located in ADAMS should contact the NRC Public Document Room Reference staff by telephone at 1-800-397-4209, 301-415-4737, or by e-mail to pdr@nrc.gov.

Applicability

These proposed changes will revise LCO 3.4.1, SR 3.4.1, the Bases associated with TS 3.4.1, and TS 5.6.3 for Combustion Engineering PWRs. To efficiently process the incoming license amendment applications, the NRC staff requests that each licensee applying for the changes addressed by TSTF-487 Revision 0, using the CLIIP submit an LAR that adheres to the following model. Any variations from the model LAR should be explained in the licensee's submittal. Variations from the approach recommended in this notice may require additional review by the NRC staff, and may increase the time and resources needed for the review. Significant variations from the approach, or inclusion of additional changes to the license, will result in NRC staff rejection of the submittal. Instead, licensees desiring significant variations and/or additional changes should submit a LAR that does not claim to adopt TSTF-487.

Public Notices

This notice requests comments from interested members of the public within 30 days of the date of this publication. Following the NRC staff's evaluation of comments received as a result of this notice, the NRC staff may reconsider the proposed change or may proceed with announcing the availability of the change in a subsequent notice (perhaps with some changes to the model LAR, model SE or model NSHC determination as a result of public comments). If the NRC staff announces the availability of the change, licensees wishing to adopt the change will submit an application in accordance with applicable rules and other regulatory requirements. The NRC staff will, in turn, issue for each application a notice of consideration of issuance of amendment to facility operating license(s), a proposed NSHC determination, and an opportunity for a hearing. A notice of issuance of an amendment to operating license(s) will also be issued to announce the revised requirements for each plant that applies for and receives the requested change.

Dated at Rockville, Maryland this 7th day of March, 2007.
For The Nuclear Regulatory Commission.
Timothy J. Kobetz,
Chief, Technical Specifications Branch, Division of Inspection and Regional Support, Office of Nuclear Reactor Regulation.

FOR INCLUSION ON THE TECHNICAL SPECIFICATION WEB PAGE THE FOLLOWING EXAMPLE OF AN APPLICATION WAS PREPARED BY THE NRC STAFF TO FACILITATE THE ADOPTION OF TECHNICAL SPECIFICATIONS TASK FORCE (TSTF) TRAVELER TSTF-487, REVISION 0 “RELOCATE DNB PARAMETERS TO THE COLR.” THE MODEL PROVIDES THE EXPECTED LEVEL OF DETAIL AND CONTENT FOR AN APPLICATION TO ADOPT TSTF-487, REVISION 0. LICENSEES REMAIN RESPONSIBLE FOR ENSURING THAT THEIR ACTUAL APPLICATION FULFILLS THEIR ADMINISTRATIVE REQUIREMENTS AS WELL AS NRC REGULATIONS.

U. S. Nuclear Regulatory Commission, Document Control Desk, Washington, DC 20555.

SUBJECT: PLANT NAME, DOCKET NO. 50-[xxx,] RE: APPLICATION FOR TECHNICAL SPECIFICATION IMPROVEMENT TO ADOPT TSTF-487, REVISION 0, “RELOCATE DNB PARAMETERS TO THE COLR”

Dear Sir or Madam:

In accordance with the provisions of Section 50.90 of Title 10 of the Code of Federal Regulations (10 CFR), [LICENSEE] is submitting a request for an amendment to the technical specifications (TS) for [PLANT NAME, UNIT NOS.]. The proposed changes would allow [PLANT NAME] to replace the DNB numeric limits in TS with references to the core operating limits report (COLR).

The changes are consistent with NRC-approved Industry Technical Specification Task Force (TSTF) Standard Technical Specification Change Traveler, TSTF-487 Revision 0. The availability of this TS improvement was announced in the Federal Register on [DATE] ([ ]FR[ ]) as part of the consolidated line item improvement process (CLIIP).

Enclosure 1 provides a description and assessment of the proposed changes, as well as confirmation of applicability. Enclosure 2 provides the existing TS pages and TS Bases marked-up to show the proposed changes. Enclosure 3 provides final TS pages and TS Bases pages. [LICENSEE] requests approval of the proposed license amendment by [DATE], with the amendment being implemented [BY DATE OR WITHIN X DAYS]. In accordance with 10 CFR 50.91, a copy of this application, with enclosures, is being provided to the designated [STATE] Official.

I declare under penalty of perjury under the laws of the United States of America that I am authorized by [LICENSEE] to make this request and that the foregoing is true and correct. [Note that request may be notarized in lieu of using this oath or affirmation statement]. If you should have any questions regarding this submittal, please contact [ ].

Sincerely,

Name, Title

Enclosures:

1. Description and Assessment of Proposed Changes

2. Proposed Technical Specification Changes and Technical Specification Bases Changes

3. Final Technical Specification and Bases pages

cc: NRR Project Manager

Regional Office

Resident Inspector

State Contact

ITSB Branch Chief

1.0 DESCRIPTION

This letter is a request to amend Operating License(s) [LICENSE NUMBER(S)] for [PLANT/UNIT NAME(S)]. The proposed changes would revise Technical Specification (TS) 3.4.1, “RCS Pressure, Temperature, and Flow [Departure from Nucleate Boiling (DNB)] Limits,” the Bases for TS 3.4.1, and TS 5.6.3 “Core Operating Limits Report (COLR),” to allow [PLANT NAME] to place the DNB numeric limits with references to the COLR.

Technical Specification Task Force (TSTF) change traveler TSTF-487, Revision 0 “Relocate DNB Parameters to the COLR” was announced for availability in the Federal Register on [DATE] as part of the consolidated line item improvement process (CLIIP).

2.0 PROPOSED CHANGES

Consistent with NRC-approved TSTF-487 Revision 0, the following changes are proposed:

• Revise the limiting conditions for operation and surveillance requirements in TS 3.4.1 to replace the DNB numeric limits for reactor coolant pressure, temperature, and flow with references to limits for those parameters calculated in the COLR.

• Revise the bases associated with TS 3.4.1 to reflect that the DNB numeric limits are contained in the COLR.

• Revise TS 5.6.3 to add the methodology requirements for calculating the DNB numeric limits in the COLR,

3.0 BACKGROUND

The background for this application is as stated in the model SE in NRC's Notice of Availability published on [DATE] ([ ] FR [ ]), the NRC Notice for Comment published on [DATE] ([ ] FR [ ]), and TSTF-487, Revision 0.

4.0 TECHNICAL ANALYSIS

[LICENSEE] has reviewed Generic Letter 88-16, and the model SE published on [DATE] ([ ] FR [ ]) as part of the CLIIP Notice for Comment. [LICENSEE] has applied the methodology in Generic Letter 88-16 to develop the proposed TS changes. [LICENSEE] has also concluded that the justifications presented in TSTF-487, Revision 0 and the model SE prepared by the NRC staff are applicable to [PLANT, UNIT NOS.], and justify this amendment for the incorporation of the changes to the [PLANT] TS.

5.0 REGULATORY ANALYSIS

A description of this proposed change and its relationship to applicable regulatory requirements and guidance was provided in the NRC Notice of Availability published on [DATE] ([ ] FR [ ]), the NRC Notice for Comment published on [DATE] ([ ] FR [ ]), and TSTF-487, Revision 0.

6.0 NO SIGNIFICANT HAZARDS CONSIDERATION

[LICENSEE] has reviewed the proposed no significant hazards consideration determination published in the Federal Register on [DATE] ([ ] FR [ ]) as part of the CLIIP. [LICENSEE] has concluded that the proposed determination presented in the notice is applicable to [PLANT] and the determination is hereby incorporated by reference to satisfy the requirements of 10 CFR 50.91(a).

7.0 ENVIRONMENTAL EVALUATION

[LICENSEE] has reviewed the environmental consideration included in the model SE published in the Federal Register on [DATE] ([ ] FR [ ]) as part of the CLIIP. [LICENSEE] has concluded that the staff's findings presented therein are applicable to [PLANT] and the determination is hereby incorporated by reference for this application.

Proposed Safety Evaluation, U.S Nuclear Regulatory Commission, Office of Nuclear Reactor Regulation.

Consolidated Line Item Improvement Technical Specification Task Force (TSTF).

Change TSTF-487, Revision 0, RELOCATE DNB PARAMETERS TO THE COLR.

1.0 INTRODUCTION

By application dated [Date], (Ref. 7.1), the [Name of Licensee] (the licensee) requested changes to the Technical Specifications (TS) for the [Name of Facility].

The proposed changes would revise TS 3.4.1, the associated bases of TS 3.4.1, and TS 5.6.3 to replace the departure from nucleate boiling (DNB) parameters limits in Technical Specifications (TSs) with references to the Core Operating Limits Report (COLR). These changes would allow the licensee to recalculate the DNB parameter limits using NRC-approved methodologies without the need for a license amendment request (LAR).

The proposed changes include the following:

• Change TS 3.4.1, “RCS Pressure, Temperature, and Flow [Departure from Nucleate Boiling (DNB)] Limits,” Limiting Conditions for Operation (LCO) 3.4.1 and the associated Surveillance Requirements (SRs) to replace the specific limit values of RCS pressurizer pressure, cold leg temperature, and RCS total flow rate with “the limits specified in the COLR.”

• Change the Bases for LCO 3.4.1 to reflect that the DNB limits are specified in the COLR.

• Change Section 5.6.3 of TS, “Core Operating Limits Report (COLR)” to include the NRC approved methodologies and requirements used to calculate the DNB limits.

Generic Letter (GL) 88-16 titled “Removal of Cycle-Specific Parameter Limits from Technical Specifications” (Ref. 7.2) is the regulatory guidance for this change.

2.0 REGULATORY EVALUATION

The Commission's regulatory requirements related to the content of Technical Specifications are specified in Title 10 CFR (Code of Federal Regulations), Section 50.36, “Technical Specifications.” 10 CFR 50.36(c)(2)(i) defines that limiting conditions for operation are the lowest functional capability or performance levels of equipment required for safe operation of the facility. For the DNB parameters, 10 CFR 50.36(c)(2)(ii)(B) Criterion 2 applies, which requires that TS LCOs be established for each process variable, design feature, or operating restriction that is an initial condition of a design basis accident or transient analysis that either assumes the failure of or presents a challenge to the integrity of a fission product barrier.

LARs are required for each fuel cycle design that results in changes to parameter limits specified in TS. To meet 10 CFR 50.36(c)(2)(ii) requirements and alleviate the need for LARs to update parameter limits every fuel cycle, the NRC issued GL 88-16 with specific guidance for replacing the limit values for cycle-specific parameters in the TSs with references to an owner-controlled document, namely, the COLR. The guidance in GL 88-16 includes the following three actions:

1. The addition of the definition of a named formal report (i.e., Core Operating Limits Report) in TS that includes the values of cycle-specific parameter limits that have been established using an NRC-approved methodology and consistent with all applicable limits of the safety analyses.

2. The addition of an administrative reporting requirement (in TS 5.6.3) to submit the formal report on cycle-specific parameter limits to the Commission for information.

3. The modification of individual TS to note that the specific parameters shall be maintained within the limits provided in the defined formal report (COLR).

The proposed change has been evaluated against GL 88-16 and found to be consistent with that regulatory guidance.

3.0 TECHNICAL EVALUATION

TS LCO 3.4.1 specifies the limit values of the DNB parameters to assure that the pressurizer pressure, the RCS cold leg temperature, and RCS flow rate during operation at rated thermal power (RTP) will be maintained within the limits assumed in the safety analyses in the final safety analysis report (FSAR). The safety analyses of anticipated operational occurrences (AOOs) and accidents assume initial conditions within the envelope of normal steady state operation at the RTP to demonstrate that the applicable acceptance criteria, including the specified acceptable fuel design limits (such as DNB ratio) and RCS pressure boundary design conditions, are met for each event analyzed. The TS limits placed on the DNB-related parameters ensure that these parameters, when appropriate measurement uncertainties are applied, will be bounded by those assumed in the safety analyses, and thereby provide assurance that the applicable acceptance criteria will not be violated should a transient or accident occur while operating at the RTP.

It is essential to safety that the plant is operated within the DNB parameter limits. This change retains the requirement to maintain the plant within the DNB parameter limits in LCO 3.4.1 along with the SR verification for each of the DNB parameters. As these parameter limits are calculated using NRC-approved methodologies and are consistent with all applicable limits of the plant safety analyses, this change does not affect nuclear safety.

TS 5.6.3, “Core Operating Limits Report (COLR),” specifies that the core operating limits shall be determined such that all applicable limits of the safety analyses are met, and that the analytical methods used to determine the core operating limits shall be those previously reviewed and approved by the NRC. This change modifies the list of NRC approved methodologies in TS 5.6.3 to include those used to calculate the DNB limits on pressurizer pressure, RCS cold leg temperature, and RCS total flow rate. The limit values of these parameters in the COLR will comply with existing operating fuel cycle analysis requirements, and are initial conditions assumed in safety analyses. Replacing of the DNB parameter values with references to the COLR does not lessen the requirement for compliance with all applicable limits.

Any revisions to the safety analyses that require prior NRC approval will be identified by the 10 CFR 50.59 review process. TS 5.6.3 also specifies that the COLR, including any midcycle revisions or supplements, shall be provided upon issuance for each reload cycle to the NRC. This will allow NRC staff to continue trending the information even though prior NRC approval of the changes to these limits will not be required.

Section 50.36 requires LCOs to contain the lowest functional capability or performance levels of equipment for safe operation of the facility. The NRC staff finds that the proposed change to LCO 3.4.1 referencing the specific values of the DNB parameter limits in TS in the COLR continues to meet the regulatory requirement of 10 CFR 50.36(c)(2)(ii)(B) (Criterion 2), and follows the guidance described in GL 88-16. The NRC staff, therefore, concludes that this change is acceptable.

For safety analyses of transients or accidents, various sections of Chapter 15 of the Standard Review Plan (Ref. 7.3) specify that the reactor is initially at the RTP plus uncertainty, and the RCS flow is at nominal design flow including the measurement uncertainty. If one or more DNB parameter limits change, and these changes do not support the RTP, a license amendment would be required to either reduce the RTP or limit the plant operation at a level below the RTP. 10 CFR 50 Appendix K requires that the loss of coolant accident analysis be performed at 102% of the RTP. Other plant-specific analyses can contain an initial condition to be performed at RTP. To insure a clear understanding of this requirement the following statement has been added to TS 5.6.3: “The maximum thermal power from the COLR shall be equal to or greater than the RTP defined in TS 1.1.”

4.0 STATE CONSULTATION

In accordance with the Commission's regulations, the [________] State official was notified of the proposed issuance of the amendment. The State official had [(1) no comments or (2) the following comments—with subsequent disposition by the staff].

5.0 ENVIRONMENTAL CONSIDERATION

The amendment[s] change[s] a requirement with respect to the installation or use of a facility component located within the restricted area as defined in 10 CFR Part 20 or surveillance requirements. The NRC staff has determined that the amendment involves no significant increase in the amounts, and no significant change in the types, of any effluents that may be released offsite, and that there is no significant increase in individual or cumulative occupational radiation exposure. The Commission has previously issued a proposed finding that the amendment involves no significant hazards consideration and there has been no public comment on such finding published [DATE] ([ ] FR [ ]). Accordingly, the amendment meets the eligibility criteria for categorical exclusion set forth in 10 CFR 51.22(c)(9). Pursuant to 10 CFR 51.22(b), no environmental impact statement or environmental assessment need be prepared in connection with the issuance of the amendment.

6.0 CONCLUSION

The NRC staff has reviewed this proposed change to replace the values of the DNB parameters in TS with references to the COLR. This change will allow the licensee the flexibility to manage operating and core design margins associated with the DNB parameters without the need for cycle-specific LARs. Any future revisions to safety analyses that require prior NRC approval will be identified by the 10 CFR 50.59 review process. Based on this evaluation the NRC staff concludes that this change meets the regulatory requirements of 10 CFR 50.36, follows the guidance described in GL 88-16, and is acceptable.

7.0 REFERENCES

7.1 License Amendment Request dated [MMM, DD, YYYY], [Title of Amendment Request], ADAMS Accession No. [MLXXXXXXXXX].

7.2 Generic Letter 88-16 dated October 4, 1988, “Removal of Cycle-Specific Parameter Limits from Technical Specifications,” ADAMS Accession No ML041830597.

7.3 NUREG-0800, “Standard Review Plan.”

Proposed No Significant Hazards Consideration Determination

Description of Amendment Request: [Plant name] requests adoption of an approved change to the standard technical specifications (STS) for Combustion Engineering Pressurized Water Reactor (PWR) Plants (NUREG-1432) and plant-specific technical specifications (TS), to allow replacing the departure from nucleate boiling (DNB) parameter limits with references to the core operating limits report (COLR) in accordance with Generic Letter 88-16, “Removal of Cycle Specific Parameter Limits from Technical Specifications,” dated October 4, 1988. The changes are consistent with NRC approved Industry/Technical Specification Task Force (TSTF) Standard Technical Specification Change Traveler, TSTF-487.

Basis for proposed no-significant-hazards-consideration determination: As required by 10 CFR 50.91(a), an analysis of the issue of no-significant-hazards-consideration is presented below:

Criterion 1: Does the Proposed Change Involve a Significant Increase in the Probability or Consequences of an Accident Previously Evaluated?

Response: No.

The proposed amendment replaces the limit values of the reactor coolant system (RCS) DNB parameters (i.e., pressurizer pressure, RCS cold leg temperature, and RCS flow rate) in TS with references to the COLR, in accordance with the guidance of Generic Letter 88-16, to allow these parameter limit values to be recalculated without a license amendment. The proposed amendment does not involve operation of any required structures, systems, or components (SSCs) in a manner or configuration different from those previously recognized or evaluated. The cycle-specific values in the COLR must be calculated using the NRC-approved methodologies listed in TS 5.6.5, “Core Operating Limits Report (COLR).” Replacing the RCS DNB parameter limits in TS with references to the COLR will maintain existing operating fuel cycle analysis requirements. Because these parameter limits are determined using the NRC-approved methodologies, the acceptance criteria established for the safety analyses of various transients and accidents will continue to be met. Therefore, neither the probability nor consequences of any accident previously evaluated will be increased by the proposed change.

Therefore, operation of the facility in accordance with the proposed amendment does not involve a significant increase in the probability or consequences of an accident previously evaluated.

Criterion 2: Does the Proposed Change Create the Possibility of a New or Different Kind of Accident from any Previously Evaluated?

Response: No.

The proposed amendment to replace the RCS DNB parameter limits in TS with references to the COLR does not involve a physical alteration of the plant, nor a change or addition of a system function. The proposed amendment does not involve operation of any required SSCs in a manner or configuration different from those previously recognized or evaluated. No new failure mechanisms will be introduced by the proposed change.

Therefore, the proposed amendment does not create the possibility of a new or different kind of accident from any accident previously evaluated.

Criterion 3: Does the Proposed Change Involve a Significant Reduction in the Margin of Safety?

Response: No.

The proposed amendment to replace the RCS DNB parameter limits in TS with references to the COLR will continue to maintain the margin of safety. The DNB parameter limits specified in the COLR will be determined based on the safety analyses of transients and accidents, performed using the NRC-approved methodologies that show that, with appropriate measurement uncertainties of these parameters accounted for, the acceptance criteria for each of the analyzed transients are met. This provides the same margin of safety as the limit values currently specified in the TS. Any future revisions to the safety analyses that require prior NRC approval are identified per the 10 CFR 50.59 review process.

Therefore, the proposed amendment would not involve a significant reduction in a margin of safety.

Based on the staff's review of the licensee's analysis, the staff concludes that the proposed amendment presents no significant hazards consideration under the standards set forth in 10 CFR 50.92(c) and, accordingly, a finding of “no significant hazards consideration” is justified.

[Lit. face SIG]

Dated at Rockville, Maryland this ___ day of ___ , 2007.

For The Nuclear Regulatory Commission.

Project Manager

Plant Licensing Branch [ ]

Division of Operating Reactor Licensing

Office of Nuclear Reactor Regulation

[FR Doc. E7-4752 Filed 3-14-07; 8:45 am]

BILLING CODE 7590-01-P